DEPARTMENT OF THE TREASURY

Office of Foreign Assets Control

Unblocking of a Specially Designated National and Blocked Person Pursuant to Executive Order 13566

AGENCY: Office of Foreign Assets Control, Department of the Treasury.

ACTION: Notice.

SUMMARY: The Department of the Treasury's Office of Foreign Assets Control (OFAC) is removing the name of one individual whose property and interests in property have been unblocked pursuant to Executive Order 13566 of February 25, 2011, “Blocking Property and Prohibiting Certain Transactions Related to Libya.”

DATES: OFAC's actions described in this notice are effective November 13, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Action

On November 13, 2015, OFAC unblocked the property and interests in property of the following individual pursuant to E.O. 13566, “Blocking Property and Prohibiting Certain Transactions Related to Libya.” All property and interests in property of the individual that are in the United States or the possession or control of United States persons are now unblocked, and the individual's name and other identifying information has been removed from the SDN List.

Individual

1. 'ABD-AL-SALAM, Humayd (a.k.a. A.A. ABDUSSALAM, Ahmid; a.k.a. 'ABD-AL-SALAM, Hmeid; a.k.a. ABDUL HADI ABDUL SALAM, Ahmid Abdussalam; a.k.a. ABDUSSALAM, Abdulhadi; a.k.a. ABDUSSALAM, Ahmid; a.k.a. “ABDULHADI”; a.k.a. “HUMAYD”); DOB 30 Dec 1965; Passport 55555 (Libya) (individual) [LIBYA2].

Dated: November 13, 2015.
Andrea Gacki,
Acting Director, Office of Foreign Assets Control.

[FR Doc. 2015-29432 Filed 11-17-15; 8:45 am]

BILLING CODE 4810-AL-P